FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 012128.

Title: Southern Africa Agreement A Cooperative Working Agreement.

Parties: A.P. Moller Maersk A/S; MSC Mediterranean Shipping Company S.A.; and Safmarine Container Lines N.V.

Filing Party: Wayne Rohde, Esq.; Cozen O'Connor; 1627 I Street, NW., Suite 1100; Washington, DC 20006.

Synopsis: The agreement authorizes the parties to charter space to and from one another between the Atlantic Coast of the United States and ports in the Bahamas and the Republic of South Africa.

Agreement No.: 012129.

Title: EUKOR/“K” Line Space Charter Agreement.

Parties: EUKOR Car Carriers, Inc. and Kawasaki Kisen Kaisha, Ltd.

Filing Party: John P. Meade, Esq., Vice-President; K- Line America, Inc., 6009 Bethlehem Road, Preston, MD 21655.

Synopsis: The agreement authorizes the parties to charter space in the trade between the U.S. East Coast and ports in China.

Dated: May 27, 2011.
By Order of the Federal Maritime Commission.
Rachel E. Dickon,
Assistant Secretary.

[FR Doc. 2011-13741 Filed 6-1-11; 8:45 am]

BILLING CODE 6730-01-P